FEDERAL COMMUNICATIONS COMMISSION

47 CFR Part 73

[DA 04-3613; MB Docket No. 04-204; RM-110661]

Radio Broadcasting Services; Birmingham, Alabama and Calhoun, GA

AGENCY: Federal Communications Commission.

ACTION: Final rule.

SUMMARY: The Audio Division, at the request of SSR Communications Incorporated, allots Channel 233A to Calhoun, Georgia, as its first FM commercial aural broadcast service. To accommodate the proposal consistent with the minimum distance separation requirements of the Commission's rules, this document also grants the reclassification of WYSF(FM), Birmingham, Alabama, to specify operation on Channel 233C0 in lieu of Channel 233C. No response was filed to the Order to Show Cause issued to Citadel Broadcasting Company, licensee of Station WYSF(FM), Birmingham, Alabama. Channel 233A at Calhoun can be allotted consistent with the minimum distance separation requirements of the Commission's Rules with a site restriction of 10.8 kilometers (6.7 miles) east of the community. The reference coordinates for Channel 233A at Calhoun are 34-31-48 NL and 84-50-19 WL. This site restriction will ensure full-spacing to Station WMUU(FM)'s licensed Channel 233C facilities at Greenville, South Carolina.

DATES: Effective January 6, 2005.

FOR FURTHER INFORMATION CONTACT: Rolanda F. Smith, Media Bureau, (202) 418-2180.

SUPPLEMENTARY INFORMATION: This is a synopsis of the Commission's Report and Order, MB Docket No. 04-204, adopted November 17, 2004, and released November 22, 2004. The full text of this Commission decision is available for inspection and copying during normal business hours in the FCC Reference Center (Room 239), 445 12th Street, SW., Washington, DC. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Alabama is amended by removing Channel 233C and by adding Channel 233C0 at Birmingham.

3. Section 73.202(b), the Table of FM Allotments under Georgia is amended by adding Calhoun, Channel 233A.

Federal Communications Commission.
John A. Karousos,
Assistant Chief, Audio Division, Media Bureau.

[FR Doc. 04-27045 Filed 12-8-04; 8:45 am]

BILLING CODE 6712-01-P